DEPARTMENT OF JUSTICE

National Institute of Justice

[OJP (NIJ) Docket No. 1826]

Request for Comment on NIJ Draft Public Access Plan

AGENCY: National Institute of Justice, Office of Justice Programs, Department of Justice.

ACTION: Notice; request for comments.

SUMMARY: The National Institute of Justice (NIJ) seeks input from all interested stakeholders, including NIJ grantees, criminal justice practitioners, academics, publishers, nonprofits, and the public as it develops a Public Access Plan to increase access to publications and data resulting from NIJ-funded research.

DATES: Individuals wishing to submit comments must do so by 5 p.m. Eastern Time November 29, 2024, as instructed below.

ADDRESSES: You may submit comments by sending electronic mail (Email) to: public.access.nij@usdoj.gov.

FOR FURTHER INFORMATION CONTACT: Gregory Dutton, Physical Scientist, National Institute of Justice, 999 North Capitol St. NE, Washington, DC 20002; telephone number: (202) 532-5612; email address: gregory.dutton@usdoj.gov.

SUPPLEMENTARY INFORMATION: Ensuring broad access to the products of NIJ-sponsored research is critical to achieving our mission to provide evidence, data, and tools to inform criminal and juvenile justice communities, victims services providers, and the public. NIJ is drafting a Public Access Plan to expand timely access to the results of NIJ-funded research and the data underpinning it. Facilitating access to both publications and data without barriers increases transparency and reproducibility. This has the potential to accelerate new discoveries and practical applications and contribute to evidence-based changes in policy and practice, which is all in the public interest. NIJ's Public Access Plan is expected to be implemented for new awards made in Fiscal Year 2025. NIJ intends to include these key requirements:

• That all peer-reviewed publications resulting from NIJ-funded research will be made freely available to the public without delay, by requiring the authors to deposit their manuscripts in a public repository designated by NIJ.

• That the data underlying those publications will be made available at the time of publication.

• That persistent digital identifiers and metadata will be used to facilitate findability and reuse.

Access to Scholarly Publications

The current scientific publishing model places many peer-reviewed journal articles behind paywalls, which can make access inequitable. While large research institutions often have subscriptions or negotiated publisher agreements granting them full access, the general public and many criminal justice practitioners typically do not. One approach authors take to reach broader audiences is to publish their work under “Gold” Open Access. The publisher collects an upfront fee to make the article free to all readers. This cost must be borne by the author, their institution, or the funding agency, putting additional financial strain on institutions and researchers. A second approach is for the author to make their author accepted manuscript—to which they typically retain the rights—available in a public repository. This is referred to as “Green” Open Access. While the manuscript made available under this approach is not the publisher's version of record, it accurately reflects the final peer-reviewed text, except for formatting. Since 2013, large federal science funding agencies (e.g., National Institutes of Health, National Science Foundation, Department of Energy) have required that a version of all peer-reviewed publications be made publicly accessible within 12 months of publication (2013 OSTP Memo). More recently, a call was made for all federally funded peer-reviewed publications and associated data to be made publicly accessible upon publication without delay (2022 OSTP Memo).

NIJ expects its grantees to publish the results of their work in the peer-reviewed literature. But since NIJ was not subject to the 2013 OSTP Memo, our current policy does not mandate public access to these publications. Currently, grantees must notify NIJ of these publications simultaneous with their public release, and they are encouraged—but not required—to index them at the National Criminal Justice Research Service (NCJRS) Virtual Library. This aids discoverability, but many NIJ-funded publications are behind publisher paywalls and inaccessible to many. To expand access, we are drafting a Public Access Plan that will require grantees to deposit their accepted manuscripts under Green Open Access at a public repository.

To facilitate this, NIJ plans to use PubMed Central (PMC) as our official repository for grantee publications. This would permit NIJ to tap into the digital infrastructure and deep expertise of the National Library of Medicine, a leader in digital library information technology. It would allow for the long-term preservation and availability of NIJ peer-reviewed publications, in a machine-readable format, along with their associated metadata, free of charge. PMC provides accessible manuscripts to the extent possible. As used here, accessibility refers to both machine readability, which makes information available for data mining, as well as to the use of assistive devices by people with disabilities. Accessibility can be limited by the completeness of the information submitted by the authors, and NIJ aims to maximize the accessibility of grantee submissions (e.g., through the inclusion of alt-text for figures). PMC can accommodate both author accepted manuscripts and publisher versions of record. PMC assigns a unique identifier to each article in addition to collecting digital object identifiers (DOIs) for versions of record when available. Through PMC's application programming interfaces (APIs), NIJ can make all our publications in PMC findable via the NCJRS Virtual Library. This would ensure that users can find and access all publications resulting from NIJ-funded research (including peer-reviewed publications, grant reports, and other documents published by the grantee or NIJ) at a single location.

Data Associated With Scholarly Publications

There is a broad and growing acknowledgement of the importance of sharing datasets that are well-documented and reusable. This serves both to confirm the reproducibility of reported findings and to enable new discoveries. Scientific datasets are increasingly considered primary research products, on par with journal publications. Secondary analysis might yield new conclusions or allow for exploration of new research questions with existing data. Despite these benefits, researchers and institutions may incur additional costs in assembling, storing, and curating these datasets.

NIJ requires grantees to archive their full project data at the end of the project period at the National Archive of Criminal Justice Data (NACJD) or an alternate repository appropriate to their field of study (https://nij.ojp.gov/funding/data-archiving). The terms of data archiving for each project (e.g., what constitutes the data, where it will be archived) are established in a Data Archiving Plan submitted at the proposal stage. The NIJ Data Officer reviews and approves this plan after an award is made and any requested revisions have been incorporated.

To expedite access to research data and consistent with other federal science agencies, NIJ now proposes to make public access to the data underlying grantee peer-reviewed publications mandatory at the time of publication. Researchers in some disciplines already routinely provide access to their data as Supplementary Information along with their publications. For others, this may be new. While the default expectation will be for maximum access, this requirement may be waived if the data are subject to disclosure concerns. This could include proprietary information; data pertaining to national security or law enforcement operations; Indigenous data; or data that could lead to a breach of personally identifiable information. As it does now for end-of-project data, NIJ will develop processes for requesting waivers for the release of publication data where legitimate disclosure concerns or prohibitions exist. Existing guidelines and award condition language will be revised accordingly.

Persistent Identifiers

A persistent identifier (PID) is a unique identifier for research information (e.g., publications, data, researchers, institutions) that is persistent, machine processable, and follows metadata schema. Greater use of PIDs would allow NIJ to use a federated approach whereby research data reside in appropriate repositories and the PID serves as a point of discovery and a means of linking information. This approach allows data assets to be managed by the research communities that create and use them, while simultaneously making them available to other users. However, this relies on third-party repositories ensuring data preservation and access over time, as well as the ongoing engagement of domain-specific expertise for dataset curation within scholarly communities.

Currently, NIJ encourages principal investigators (PIs) and co-PIs to provide a researcher PID (e.g., ORCID) at the time of application. This helps NIJ assess applicants' publishing histories as well as track the products of NIJ funding into the future. NIJ's grant reporting process also encourages researchers to report PIDs for publications and datasets (typically DOIs).

NIJ intends to expand its use of PIDs. In line with NSPM-33 specifications, NIJ plans to require the NSPM-33 compliant Common Forms (i.e., Biographical Sketch, and Current and Pending (Other) Support), which should include researcher PIDs, with all applications. Additionally, NIJ is exploring the assignment of PIDs, via CrossRef, to grant award numbers and final grant reports, as well as NIJ-published content such as the NIJ Journal.

Questions

Commenters are encouraged to respond to any or all of the following questions. Additional comments relevant to public access are also welcome. The Freedom of Information Act applies to all comments received and may require release of part or all of a comment. NIJ anticipates publishing a summary of the comments received. No personally identifying information about the commenters will be included in the summary.

EQUITY

What steps should NIJ take to improve equity in access to peer-reviewed publications?

How can NIJ ensure equity in publication opportunities for NIJ-supported authors?

PUBLICATIONS

What opportunities or benefits do you anticipate you or your institution would realize from a requirement that NIJ-funded peer-reviewed publications be made available in a designated repository (e.g., PubMed Central)?

What challenges or barriers do you anticipate facing in complying with a requirement that NIJ-funded peer-reviewed publications be made available in a designated repository?

If you are an author, have you published under Gold Open Access? Have you deposited your Author Accepted Manuscripts in a Green Open Access repository? Why or why not?

If you are an author, have you attached use licenses (e.g. Creative Commons) to your publications to clarify the terms of use and reuse by others? Why or why not?

DATA

What opportunities or benefits do you anticipate you or your institution would realize from a requirement that the data underlying your NIJ-funded peer-reviewed publications be made publicly available?

What challenges or barriers do you anticipate in complying with a requirement that the data underlying your NIJ-funded peer-reviewed publications be made publicly available?

How can NIJ provide broad access to datasets while protecting sensitive personal, proprietary, or national security information?

If you are an author, have you made your publication data available along with your publications? What repositories did you use and why?

PIDs

What should NIJ consider in improving the findability and transparency of its research through PIDs and metadata?

How can NIJ best implement the use of PIDs for people, institutions, and research products?

SOFTWARE

How can NIJ improve the archiving, sharing, and maintenance of NIJ-funded software for reuse?

GENERAL

How can NIJ ensure broad access and accessibility to the outputs of NIJ-funded research?

What are the best practices (from academia, industry, and other stakeholder communities) for managing public access to research results?

What will be the biggest challenges to NIJ implementing a public access policy, and how can these challenges be addressed?

RESPONDENT BACKGROUND

To contextualize your responses, please give any relevant information about your background, including primary field of study, type of institution, career stage, community partnerships (if applicable), and anything else that may impact your relationship to scholarly publications and data.

NIJ publishes this notice pursuant to its authority at 34 U.S.C. 10122(c) and 6 U.S.C. 161-165.

Nancy La Vigne,
Director, National Institute of Justice.

[FR Doc. 2024-22285 Filed 9-27-24; 8:45 am]

BILLING CODE 4410-18-P